DEPARTMENT OF ENERGY

Federal Energy Regulatory Commission

Combined Notice of Filings #1

Take notice that the Commission received the following electric corporate filings:

Docket Numbers: EC15-209-000.

Applicants: CPV Sentinel, LLC.

Description: Application for Authorization Under Section 203 of the Federal Power Act and Request for Waivers, Confidential Treatment, Expedited Action and Shortened Comment Period of CPV Sentinel, LLC.

Filed Date: 9/23/15.

Accession Number: 20150923-5066.

Comments Due: 5 p.m. ET 10/14/15.

Take notice that the Commission received the following exempt wholesale generator filings:

Docket Numbers: EG15-130-000.

Applicants: Saddleback Ridge Wind, LLC.

Description: Notice of Self-Certification of EG or FC of Saddleback Ridge Wind, LLC.

Filed Date: 9/23/15.

Accession Number: 20150923-5102.

Comments Due: 5 p.m. ET 10/14/15.

Take notice that the Commission received the following electric rate filings:

Docket Numbers: ER15-518-004.

Applicants: Duke Energy Progress, LLC, Duke Energy Florida, LLC, Duke Energy Carolinas, LLC.

Description: Compliance filing: Order 676-H Compliance Filing (FERC Order) to be effective 5/15/2015.

Filed Date: 9/23/15.

Accession Number: 20150923-5141.

Comments Due: 5 p.m. ET 10/14/15.

Docket Numbers: ER15-698-001.

Applicants: Northern States Power Company, a Minnesota corporation, Northern States Power Company, a Wisconsin corporation.

Description: Tariff Amendment: 20150923_PI EPU IA Update to be effective 1/1/2016.

Filed Date: 9/23/15.

Accession Number: 20150923-5062.

Comments Due: 5 p.m. ET 10/14/15.

Docket Numbers: ER15-2692-000.

Applicants: Criterion Power Partners, LLC.

Description: Baseline eTariff Filing: Rate Schedule 1—Shared Facilities Agreement to be effective 9/23/2015.

Filed Date: 9/22/15.

Accession Number: 20150922-5163.

Comments Due: 5 p.m. ET 10/13/15.

Docket Numbers: ER15-2693-000.

Applicants: Baltimore Power Company LLC.

Description: Baseline eTariff Filing: Baseline new to be effective 10/30/2015.

Filed Date: 9/23/15.

Accession Number: 20150923-5001.

Comments Due: 5 p.m. ET 10/14/15.

Docket Numbers: ER15-2694-000.

Applicants: Crosswind Transmission, LLC.

Description: Baseline eTariff Filing: Crosswind Transmission and Clear View Transmission & Interconnection Agreement to be effective 11/22/2015.

Filed Date: 9/23/15.

Accession Number: 20150923-5147.

Comments Due: 5 p.m. ET 10/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2015.
Nathaniel J. Davis, Sr.,
Deputy Secretary.

[FR Doc. 2015-25013 Filed 10-1-15; 8:45 am]

BILLING CODE 6717-01-P